DEPARTMENT OF ENERGY

Federal Energy Regulatory Commission

[Docket No. IC09-546-001]

Commission Information Collection Activities (FERC-546); Comment Request; Submitted for OMB Review

July 16, 2009.

AGENCY: Federal Energy Regulatory Commission.

ACTION: Notice.

SUMMARY: In compliance with the requirements of section 3507 of the Paperwork Reduction Act of 1995, 44 U.S.C. 3507, the Federal Energy Regulatory Commission (Commission or FERC) has submitted the information collection described below to the Office of Management and Budget (OMB) for review of the information collection requirements. Any interested person may file comments directly with OMB and should address a copy of those comments to the Commission as explained below. The Commission received no comments in response to the Federal Register notice (74FR6401, 2/9/2009) and has made this notation in its submission to OMB.

DATES: Comments on the collection of information are due by August 27, 2009.

ADDRESSES: Address comments on the collection of information to the Office of Management and Budget, Office of Information and Regulatory Affairs, Attention: Federal Energy Regulatory Commission Desk Officer. Comments to OMB should be filed electronically, c/o oira__submission@omb.eop.gov and include OMB Control Number 1902-0155 as a point of reference. The Desk Officer may be reached by telephone at 202-395-4638.

A copy of the comments should also be sent to the Federal Energy Regulatory Commission and should refer to Docket No. IC09-546-001. Comments may be filed either electronically or in paper format. Those persons filing electronically do not need to make a paper filing. Documents filed must be prepared in an acceptable filing format and in compliance with the Federal Energy Regulatory Commission submission guidelines. Complete filing instructions and acceptable filing formats are available at http://www.ferc.gov/help/submission-guide.asp. To file the document electronically, access the Commission's Web site, click on Documents & Filing, E-Filing (http://www.ferc.gov/docs-filing/efiling.asp), and then follow the instructions for each screen. New users will have to establish a user name and password. The Commission will send an automatic acknowledgement to the sender's e-mail address upon receipt of comments.

For paper filings, an original and 2 copies of the comments should be submitted to the Federal Energy Regulatory Commission, Secretary of the Commission, 888 First Street, NE., Washington, DC 20426, and should refer to Docket No. IC09-546-001.

All comments may be viewed, printed or downloaded remotely via the Internet through FERC's homepage using the “eLibrary” link. For user assistance, contact fercolinesupport@ferc.gov or toll-free at (866) 208-3676 or for TTY, contact (202) 502-8659.

FOR FURTHER INFORMATION CONTACT: Ellen Brown may be reached by telephone at (202) 502-8663, by fax at (202) 273-0873, and by e-mail at ellen.brown@ferc.gov.

SUPPLEMENTARY INFORMATION: FERC-546 (Certificated Rate Filings: Gas Pipeline Rates; OMB Control Number 1902-0155) is required to implement sections 4, 5, 16 and 7(e) of the Natural Gas Act (NGA) (15 U.S.C. 717-717w). NGA sections 4, 5 and 16 authorize the Commission to inquire into rate structures and methodologies and to set rates at a just and reasonable level. Section 7(e) authorizes the Commission to set initial rates that are in keeping with the public convenience and necessity.

The Commission uses the FERC-546 information to examine service and tariff provisions for the transportation and storage, and/or sale of natural gas in interstate commerce filed with the Commission.

When a pipeline company decides to construct and operate a jurisdictional pipeline, it files an application with the Commission and receives a Certificate of Public Convenience and Necessity. As part of its review, the Commission considers and authorizes “initial rates” for transportation and/or storage service for the pipeline. Initial rates are established for new services authorized in certificate proceedings and must meet a public convenience and necessity standard. Initial rates established in the certificate proceeding remain in effect until such rates are reviewed by the Commission in a rate proceeding. The information submitted by the pipeline company to the Commission in these applications for initial rates is the subject of FERC-546.

The Commission's reporting requirements for this information collection are provided in 18 CFR 154.4, 154.7, 154.202, 154.204-.209, and 154.602-.603. Failure to collect this information would prevent the Commission from monitoring and properly evaluating pipeline proposals to add or modify services.

Action: The Commission is requesting a three-year extension of the current expiration date, with no change to the existing reporting requirements in FERC-546.

Burden Statement: Public reporting burden for this collection is estimated at:

FERC data collection—FERC-546 | Number of respondents annually | Number of responses per respondent | Average burden hours per response | Total annual burden hours
| (1) | (2) | (3) | (1)×(2)×(3)
Natural Gas Companies | 77 | 4 | 40 | 12,320
Storage Operators | 3 | 1 | 350 | 1,050
Total |  |  |  | 13,370

The estimated cost burden ¹ to respondents is $824,678.31 (13,370 hours divided by 2,080 hours per year times $128,297 ² equals $824,678.31). The cost per respondent is $10,308.48.

¹ The figures may not be exact, due to rounding.

² The number of hours an employee works each year is 2,080. The average annual salary per employee is $128,297.

The reporting burden includes the total time, effort, or financial resources expended to generate, maintain, retain, disclose, or provide the information including: (1) Reviewing instructions; (2) developing, acquiring, installing, and utilizing technology and systems for the purposes of collecting, validating, verifying, processing, maintaining, disclosing and providing information; (3) adjusting the existing ways to comply with any previously applicable instructions and requirements; (4) training personnel to respond to a collection of information; (5) searching data sources; (6) completing and reviewing the collection of information; and (7) transmitting, or otherwise disclosing the information.

The estimate of cost for respondents is based upon salaries for professional and clerical support, as well as direct and indirect overhead costs. Direct costs include all costs directly attributable to providing this information, such as administrative costs and the cost for information technology. Indirect or overhead costs are costs incurred by an organization in support of its mission. These costs apply to activities which benefit the whole organization, rather than any one particular function or activity.

Comments are invited on: (1) Whether the proposed collection of information is necessary for the proper performance of the functions of the Commission, including whether the information will have practical utility; (2) the accuracy of the agency's estimates of the burden of the proposed collection of information, including the validity of the methodology and assumptions used; (3) ways to enhance the quality, utility and clarity of the information to be collected; and (4) ways to minimize the burden of the collection of information on those who are to respond, including the use of appropriate automated, electronic, mechanical, or other technological collection techniques or other forms of information technology, e.g. permitting electronic submission of responses.

Kimberly D. Bose,
Secretary.

[FR Doc. E9-17502 Filed 7-22-09; 8:45 am]

BILLING CODE 6717-01-P